OFFICE OF GOVERNMENT ETHICS

Announcement of Public Meeting: OGE's 2026-2030 Strategic Plan

AGENCY: Office of Government Ethics (OGE).

ACTION: Announcement of public meeting.

SUMMARY: The U.S. Office of Government Ethics (OGE) is in the early stages of drafting its 2026-2030 Strategic Plan (Plan) and is holding a public meeting to seek initial input.

DATES:

Public Meeting Date: The public meeting will be held on the following date:

• April 3, 2025, from 10 a.m. to 12 p.m., eastern time.

Information on how to register for the public meetings may be found in the SUPPLEMENTARY INFORMATION section of this notice.

Written Comment Period Date: Written comments are invited and must be received on or before April 3, 2025. Information on how to submit a written comment may be found in the SUPPLEMENTARY INFORMATION section of this notice.

ADDRESSES: The public meeting will be held virtually.

FOR FURTHER INFORMATION CONTACT: Nicole Stein, Office of Government Ethics, Suite 750, 250 E Street SW, Washington, DC 20024; telephone: (202) 482-9300; TTY: (800) 877-8339.

SUPPLEMENTARY INFORMATION: The U.S. Office of Government Ethics (OGE) is in the early stages of drafting its 2026-2030 Strategic Plan (Plan). OGE seeks input on the three questions below which will inform the new Plan.

1. Public Trust: Given that OGE does not have an investigatory or enforcement role, what are ways that OGE can do to build public confidence in government decision-making?

2. Awareness: Given the size of OGE, approximately 75 people, and limited budgetary resources, what are ways OGE can improve understanding about the systems in place to detect conflicts of interest and raise the visibility of OGE as an agency and the executive branch ethics program as a whole?

3. Priorities: Given the size of OGE, approximately 75 people, and limited budgetary resources, which aspects of its work should OGE emphasize in its plan? (Objectives from the last Strategic Plan can be found in this document: https://www.oge.gov/web/OGE.nsf/0/BA2F0B0F1DC11D1485258813006160B8/$FILE/U.S.%20OGE%202022-2026%20Strategic%20Plan%20(website).pdf.)

Registration: Individuals must register electronically through this link: https://events.gcc.teams.microsoft.com/event/4ba2c307-1a33-46cb-a9b7-3be339ec62ac@c0abca44-0182-40a9-8010-01ec94254f77.

Written Comments: Written comments are invited and must be received on or before April 3, 2025. Comments will be accepted by any of the following methods:

(1) Email: OGEStrategicPlan@oge.gov.

(2) Mail: Office of Government Ethics, Suite 750, 250 E Street SW, Washington, DC 20024, Attention: “OGE Strategic Plan.”

All comments, including attachments and other supporting materials, will become part of the public record and subject to public disclosure. Comments may be posted on OGE's website, www.oge.gov. Sensitive personal information, such as account numbers or Social Security numbers, should not be included. Comments generally will not be edited to remove any identifying or contact information.

Approved: February 25, 2025.
Shelley K. Finlayson,
Chief of Staff and Program Counsel, U.S. Office of Government Ethics.

[FR Doc. 2025-03250 Filed 2-27-25; 8:45 am]

BILLING CODE 6345-04-P